DEPARTMENT OF COMMERCE

National Oceanic and Atmospheric Administration

RIN 0648-XA817

Marine Mammals; File No. 16124

AGENCY: National Marine Fisheries Service (NMFS), National Oceanic and Atmospheric Administration (NOAA), Commerce.

ACTION: Notice; receipt of application.

SUMMARY: Notice is hereby given that Sea World, Inc., Sea World, Inc., 9205 South Park Center Loop, Suite 400, Orlando, FL 32819 (Brad Andrews, Responsible Party), has applied in due form for a permit to conduct research on and enhancement of Hawaiian monk seals (Monachus schauinslandi) in permanent captivity.

DATES: Written, telefaxed, or email comments must be received on or before December 14, 2011.

ADDRESSES: The application and related documents are available for review by selecting “Records Open for Public Comment” from the Features box on the Applications and Permits for Protected Species (APPS) home page, https://apps.nmfs.noaa.gov, and then selecting File No. 16124 from the list of available applications.

These documents are also available upon written request or by appointment in the following offices:

Permits, Conservation and Education Division, Office of Protected Resources, NMFS, 1315 East-West Highway, Room 13705, Silver Spring, MD 20910; phone (301) 427-8401; fax (301) 713-0376;

Pacific Islands Region, NMFS, 1601 Kapiolani Blvd., Room 1110, Honolulu, HI 96814-4700; phone (808) 944-2200; fax (808) 973-2941; and

Southeast Region, NMFS, 263 13th Avenue South, Saint Petersburg, Florida 33701; phone (727) 824-5312; fax (727) 824-5309.

Written comments on this application should be submitted to the Chief, Permits, Conservation and Education Division, at the address listed above. Comments may also be submitted by facsimile to (301) 713-0376, or by email to NMFS.Pr1Comments@noaa.gov. Please include File No. 16124 in the subject line of the email comment.

Those individuals requesting a public hearing should submit a written request to the Chief, Permits, Conservation and Education Division at the address listed above. The request should set forth the specific reasons why a hearing on this application would be appropriate.

FOR FURTHER INFORMATION CONTACT: Amy Sloan or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to continue long-term holding of six adult female monk seals that were deemed non-releasable in 1997 due to an eye disease of unknown etiology; release of the seals would have presented a risk to the health of wild monk seals. The objectives of this request are to allow captive maintenance of the seals at Sea World, San Antonio, TX, to enhance survival of the species and conduct scientific research. In addition to the continued captive maintenance of the seals to prevent disease risk to the wild population, the applicant requests authorization to allow continued public awareness through education and public observation of the seals. Research proposed includes vaccination trials involving administration of two vaccines and up to four blood samples and four nasal swabs per seal per year. Non-intrusive research concurrent with husbandry and medical procedures is also proposed. The permit is requested for a 5-year period.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: November 7, 2011.
P. Michael Payne,
Chief, Permits, Conservation and Education Division, Office of Protected Resources, National Marine Fisheries Service.

[FR Doc. 2011-29308 Filed 11-10-11; 8:45 am]

BILLING CODE 3510-22-P